DEPARTMENT OF TRANSPORTATION

Federal Aviation Administration

14 CFR Part 39

[Docket No. FAA-2017-0247; Directorate Identifier 2016-NM-180-AD]

RIN 2120-AA64

Airworthiness Directives; The Boeing Company Airplanes

AGENCY: Federal Aviation Administration (FAA), DOT.

ACTION: Notice of proposed rulemaking (NPRM).

SUMMARY: We propose to supersede Airworthiness Directive (AD) 2012-05-03, which applies to certain The Boeing Company Model 747-100, 747-100B, 747-100B SUD, 747-200B, 747-200C, 747-200F, 747-300, 747-400, 747-400D, 747-400F, 747SR, and 747SP series airplanes. AD 2012-05-03 currently requires modifying the fluid drain path in the leading edge area of the wing. Since we issued AD 2012-05-03, Boeing has informed us that it did not provide work instructions to seal two of the drainage holes in the wing leading edge area. This proposed AD would require additional work to seal those drainage holes in the wing access panels. We are proposing this AD to address the unsafe condition on these products.

DATES: We must receive comments on this proposed AD by May 26, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; Internet https://www.myboeingfleet.com. You may view this referenced service information at the FAA, Transport Airplane Directorate, 1601 Lind Avenue SW., Renton, WA. For information on the availability of this material at the FAA, call 425-227-1221. It is also available on the internet at http://www.regulations.gov by searching for and locating Docket No. FAA-2017-0247.

Examining the AD Docket

You may examine the AD docket on the Internet at http://www.regulations.gov by searching for and locating Docket No. FAA-2017-0247; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Tung Tran, Aerospace Engineer, Propulsion Branch, ANM-140S, Seattle Aircraft Certification Office (ACO), FAA, 1601 Lind Avenue SW., Renton, WA 98057-3356; phone: 425-917-6505; fax: 425-917-6590; email: Tung.Tran@faa.gov.

SUPPLEMENTARY INFORMATION:

Comments Invited

We invite you to send any written relevant data, views, or arguments about this proposed AD. Send your comments to an address listed under the ADDRESSES section. Include “Docket No. FAA-2017-0247; Directorate Identifier 2016-NM-180-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On February 27, 2012, we issued AD 2012-05-03, Amendment 39-16975 (77 FR 16143, March 20, 2012) (“AD 2012-05-03”), for certain The Boeing Company Model 747-100, 747-100B, 747-100B SUD, 747-200B, 747-200C, 747-200F, 747-300, 747-400, 747-400D, 747-400F, 747SR, and 747SP series airplanes. AD 2012-05-03 requires modifying the fluid drain path in the leading edge area of the wing. AD 2012-05-03 resulted from a design review following a ground fire incident and reports of flammable fluid leaks from the wing leading edge area onto the engine exhaust area. We issued AD 2012-05-03 to prevent flammable fluid from leaking onto the engine exhaust nozzle, which could result in a fire.

Actions Since AD 2012-05-03 Was Issued

Since we issued AD 2012-05-03, Boeing has informed us that it did not provide work instructions to seal two of the drainage holes in the wing leading edge area.

Related Service Information Under 1 CFR Part 51

We reviewed Boeing Special Attention Service Bulletin 747-57-2332, Revision 2, dated February 22, 2016. This service information divides the affected airplanes into 10 groups.

For all groups, this service information describes procedures for modifying the fluid drain path in the leading edge area of the wing. The modification consists of changing fluid dam assemblies at wing outboard leading edge station (OLES) 1250, and installing seal assemblies at OLES 1185. Additionally, this service information specifies changing the lower leading edge wing panels through repairs and installation of parts.

For Groups 1 through 6 airplanes, this service information also specifies installing fluid dam assemblies at wing inboard leading edge station 770.

This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would retain all of the requirements of AD 2012-05-03. This proposed AD would also require sealing two drainage holes in the wing access panels, as specified in the service information described previously. For information on the procedures and compliance times, see this service information at http://www.regulations.gov by searching for and locating Docket No. FAA-2017-0247.

Differences Between This Proposed AD and the Service Information

Boeing Special Attention Service Bulletin 747-57-2332, Revision 2, dated February 22, 2016, specifies a compliance time of within 60 months after April 24, 2012 (the effective date of AD 2012-05-03), to accomplish the new proposed actions. We have determined that an appropriate compliance time for accomplishing the new proposed actions is within 2 years after the effective date of this AD.

Costs of Compliance

We estimate that this proposed AD affects 258 airplanes of U.S. registry. We estimate the following costs to comply with this proposed AD:

Estimated Costs
Action | Labor cost | Parts cost | Cost per product | Cost on U.S. operators
Fluid drainage modification (Groups 1-6) (143 airplanes) (actions retained from AD 2012-05-03) | 95 work-hours × $85 per hour = $8,075 | $33,609 | $41,684 | $5,960,812
Fluid drainage modification (Groups 7-10) (115 airplanes) (actions retained from AD 2012-05-03) | 90 work-hours × $85 per hour = $7,650 | 29,304 | 36,954 | 4,249,710
Drainage hole repair (258 airplanes) (new proposed action) | 2 work-hours × $85 per hour = $170 | 9 | 179 | 46,182

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-05-03, Amendment 39-16975 (77 FR 16143, March 20, 2012), and adding the following new AD:

The Boeing Company: Docket No. FAA-2017-0247; Directorate Identifier 2016-NM-180-AD.

(a) Comments Due Date

The FAA must receive comments on this AD action by May 26, 2017.

(b) Affected ADs

This AD replaces AD 2012-05-03, Amendment 39-16975 (77 FR 16143, March 20, 2012) (“AD 2012-05-03”).

(c) Applicability

This AD applies to The Boeing Company Model 747-100, 747-100B, 747-100B SUD, 747-200B, 747-200C, 747-200F, 747-300, 747-400, 747-400D, 747-400F, 747SR, and 747SP series airplanes, certificated in any category, as identified in Boeing Special Attention Service Bulletin 747-57-2332, Revision 2, dated February 22, 2016.

(d) Subject

Air Transport Association (ATA) of America Code 57, Wings.

(e) Unsafe Condition

This AD was prompted by a design review following a ground fire incident and reports of flammable fluid leaks from the wing leading edge area onto the engine exhaust area. We are issuing this AD to prevent flammable fluid from leaking onto the engine exhaust nozzle, which could result in a fire.

(f) Compliance

Comply with this AD within the compliance times specified, unless already done.

(g) Retained Leading Edge Installation, With Revised Service Information

This paragraph restates the requirements of paragraph (g) of AD 2012-05-03, with revised service information. Within 60 months after April 24, 2012 (the effective date of AD 2012-05-03), modify the fluid drain path in the leading edge area of the wing, in accordance with all applicable parts of the Accomplishment Instructions of Boeing Special Attention Service Bulletin 747-57-2332, Revision 1, dated July 25, 2011; or Revision 2, dated February 22, 2016.

(h) Retained Credit for Previous Actions, With No Changes

This paragraph restates the provisions of paragraph (h) of AD 2012-05-03, with no changes. This paragraph provides credit for modification of the fluid drain path required by paragraph (g) of this AD, if the modification was performed before April 24, 2012, using Boeing Special Attention Service Bulletin 747-57-2332, dated November 9, 2010.

(i) New Addition of Drainage Hole Sealant

For airplanes on which the actions specified in Boeing Special Attention Service Bulletin 747-57-2332, dated November 9, 2010; or Revision 1, dated July 25, 2011; were done: Within 2 years after the effective date of this AD, fill the drainage holes in wing panels 521EB and 621EB with sealant, in accordance with Part 5 of the Accomplishment Instructions of Boeing Special Attention Service Bulletin 747-57-2332, Revision 2, dated February 22, 2016.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) AMOCs approved previously for AD 2012-05-03 are approved as AMOCs for the corresponding provisions of paragraph (g) of this AD.

(k) Related Information

(1) For more information about this AD, contact Tung Tran, Aerospace Engineer, Propulsion Branch, ANM-140S, Seattle ACO, FAA, 1601 Lind Avenue SW., Renton, WA 98057-3356; phone: 425-917-6505; fax: 425-917-6590; email: Tung.Tran@faa.gov.

(2) For service information identified in this AD, contact Boeing Commercial Airplanes, Attention: Contractual & Data Services (C&DS), 2600 Westminster Blvd., MC 110-SK57, Seal Beach, CA 90740-5600; telephone 562-797-1717; Internet https://www.myboeingfleet.com. You may view this referenced service information at the FAA, Transport Airplane Directorate, 1601 Lind Avenue SW., Renton, WA. For information on the availability of this material at the FAA, call 425-227-1221.

Issued in Renton, Washington, on April 3, 2017.
Michael Kaszycki,
Acting Manager, Transport Airplane Directorate, Aircraft Certification Service.

[FR Doc. 2017-07121 Filed 4-10-17; 8:45 am]

BILLING CODE 4910-13-P